DEPARTMENT OF DEFENSE

Office of the Secretary

[Transmittal No. 23-08]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 23-08, Policy Justification, and Sensitivity of Technology.

Dated: August 23, 2024.
Aaron T. Siegel,
Alternate OSD Federal Register Liaison Officer, Department of Defense.

BILLING CODE 6001-FR-P

BILLING CODE 6001-FR-C

Transmittal No. 23-08

Notice of Proposed Issuance of Letter of Offer Pursuant to Section 36(b)(1) of the Arms Export Control Act, as amended

(i) Prospective Purchaser: The Government of the Netherlands

(ii) Total Estimated Value:

Major Defense Equipment * | $520 million
Other | $150 million
TOTAL | $670 million

(iii) Description and Quantity or Quantities of Articles or Services under Consideration for Purchase:

Major Defense Equipment (MDE):

Twenty (20) M142 High Mobility Artillery Rocket System (HIMARS) Launchers

Thirty-nine (39) M30A2 Guided Multiple Launch Rocket System (GMLRS) Alternative Warhead (AW) Missile Pods with Insensitive Munitions Propulsion System (IMPS)

Thirty-eight (38) M31A2 GMLRS Unitary (GMLRS-U) High Explosive (HE) Missile Pods with IMPS

Eighty (80) M57 Army Tactical Missile System (ATACMS) Missile Pods

Seventeen (17) M1152A1 High Mobility Multipurpose Wheeled Vehicles (HMMWVs)

Non-MDE:

Also included are M28A2 Reduced Range Practice Rocket (RRPR) pods; radios with similar “SINCGARS” capability, including vehicular dual long-range radio systems w/GPS; single radio, long range vehicular system w/GPS; High Frequency/VHF radios; M1084A2 cargo trucks, Family of Medium Tactical Vehicles (FMTVs) Resupply Vehicles (RSVs); M1089A2 wrecker truck, FMTVs; M1095 5-ton trailer FMTVs; Simple Key Loaders (SKLs), AN/PYQ-10; Defense Advanced Global Positioning System Receivers (DAGRs); machine gun mounts; battle management systems, Vehicle Integration Kits, ruggedized laptops, and training equipment publications for HIMARS and munitions; camouflage screen and support systems; support equipment; communications equipment; spare and repair parts; test sets; training and training equipment; publications; systems integration support; technical data; Stockpile Reliability, Quality Assurance and Technical Assistance teams; U.S. Government and contractor technical, engineering, and logistics support services; and other related elements of logistical and program support.

(iv) Military Department: Army (NE-B-YAX)

(v) Prior Related Cases, if any: NE-B-PBM

(vi) Sales Commission, Fee, etc., Paid, Offered, or Agreed to be Paid: None known at this time

(vii) Sensitivity of Technology Contained in the Defense Article or Defense Services Proposed to be Sold: See Attached Annex

(viii) Date Report Delivered to Congress: February 16, 2023

*As defined in Section 47(6) of the Arms Export Control Act.

POLICY JUSTIFICATION

The Netherlands—M142 High Mobility Artillery Rocket System (HIMARS)

The Government of the Netherlands has requested to buy twenty (20) M142 High Mobility Artillery Rocket System (HIMARS) launchers; thirty-nine (39) M30A2 Guided Multiple Launch Rocket System (GMLRS) Alternative Warhead (AW) Missile Pods with Insensitive Munitions Propulsion System (IMPS); thirty-eight (38) M31A2 GMLRS Unitary (GMLRS-U) High Explosive (HE) Missile Pods with IMPS; eighty (80) M57 Army Tactical Missile System (ATACMS) Missile Pods; and seventeen (17) M1152A1 High Mobility Multipurpose Wheeled Vehicles (HMMWVs). Also included are M28A2 Reduced Range Practice Rocket (RRPR) pods; radios with similar “SINCGARS” capability, including vehicular dual long-range radio systems w/GPS; single radio, long range vehicular system w/GPS; High Frequency/VHF radios; M1084A2 cargo trucks, Family of Medium Tactical Vehicles (FMTVs) Resupply Vehicles (RSVs); M1089A2 wrecker truck, FMTVs; M1095 5-ton trailer FMTVs; Simple Key Loaders (SKLs), AN/PYQ-10; Defense Advanced Global Positioning System Receivers (DAGRs); machine gun mounts; battle management systems, Vehicle Integration Kits, ruggedized laptops, and training equipment publications for HIMARS and munitions; camouflage screen and support systems; support equipment; communications equipment; spare and repair parts; test sets; training and training equipment; publications; systems integration support; technical data; Stockpile Reliability, Quality Assurance and Technical Assistance teams; U.S. Government and contractor technical, engineering, and logistics support services; and other related elements of logistical and program support. The total estimated cost is $670 million.

This proposed sale will support the foreign policy and national security objectives of the United States by helping to improve the security of a NATO ally that is an important force for political stability and economic progress in Europe.

The proposed sale will improve the Netherlands' military goals of updating capability while further enhancing interoperability with the United States and other allies. The Netherlands intends to use these defense articles and services to modernize its armed forces and expand its capability to strengthen its homeland defense and deter regional threats. The Netherlands will have no difficulty absorbing this equipment into its armed forces.

The proposed sale of this equipment and support will not alter the basic military balance in the region.

The principal contractor will be Lockheed Martin, Grand Prairie, TX. There are no known offset agreements proposed in connection with this potential sale.

Implementation of this proposed sale will require U.S. Government or contractor representatives to travel to the Netherlands for program management reviews to support the program. Travel is expected to occur approximately twice per year as needed to support equipment fielding and training.

There will be no adverse impact on U.S. defense readiness as a result of this proposed sale.

Transmittal No. 23-08

Notice of Proposed Issuance of Letter of Offer Pursuant to Section 36(b)(1) of the Arms Export Control Act, as amended

(vii) Sensitivity of Technology

1. The M142 High Mobility Artillery Rocket System (HIMARS) is a C-130 transportable wheeled launcher mounted on a 5-ton Family of Medium Tactical Vehicles truck chassis. HIMARS is the modern Army-fielded version of the Multiple Launch Rocket System (MLRS) M270 launcher and can fire all of the MLRS Family of Munitions (FOM) including Guided Multiple Launch Rocket System (GMLRS) variants and the Army Tactical Missile System (ATACMS). Utilizing the MLRS FOM, the HIMARS can engage targets between 15 and 300 kilometers with GPS-aided precision accuracy.

2. The Guided Multiple Launch Rocket System (GMLRS) M31A2 Unitary is the Army's primary munition for units fielding the M142 HIMARS and M270Al Multiple Launcher Rocket System (MLRS) Launchers. The M31 Unitary is a solid propellant artillery rocket that uses Global Positioning System/Precise Positioning Service (GPS/PPS)-aided inertial guidance to accurately and quickly deliver a single high-explosive blast fragmentation warhead to targets at ranges from 15-70 kilometers. The rockets are fired from a launch pod container that also serves as the storage and transportation container for the rockets. Each rocket pod holds six (6) total rockets.

3. The M30A2 GMLRS Alternative Warhead shares a greater than 90% commonality with the M31A1 Unitary. The primary difference between the GMLRS-U and GMLRS-AW is the replacement of the Unitary' s high explosive warhead with a 200-pound fragmentation warhead of pre-formed tungsten penetrators which is optimized for effectiveness against large area and imprecisely located targets. The munitions otherwise share a common motor, GPS/PPS-aided inertial guidance and control system, fuzing mechanism, multi-option height of burst capability, and effective range of 15-70km.

4. The M57 Army Tactical Missile System (ATACMS)—Unitary is a conventional, semi-ballistic missile that utilizes a 500-pound high explosive warhead. It has an effective range of between 70 and 300 kilometers and has increased lethality and accuracy over previous versions of the ATACMS due to a GPS/Precise Position System (PPS) aided navigation system.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that the Netherlands can provide substantially the same degree of protection for the sensitive technology being released as the U.S. Government. This sale is necessary in furtherance of the U.S. foreign policy and national security objectives outlined in the Policy Justification.

8. All defense articles and services listed in this transmittal have been authorized for release and export to the Government of the Netherlands.

[FR Doc. 2024-19352 Filed 8-27-24; 8:45 am]

BILLING CODE 6001-FR-P